INTERNATIONAL TRADE COMMISSION

[Investigation Nos. 332-350 and 332-351]

Monitoring of U.S. Imports of Tomatoes; Monitoring of U.S. Imports of Peppers

AGENCY: United States International Trade Commission

ACTION: Notice of opportunity to submit information for 2008 monitoring reports.

SUMMARY: Pursuant to statute (see below), the Commission monitors U.S. imports of fresh or chilled tomatoes and fresh or chilled peppers, other than chili peppers, for the purpose of expediting an investigation under certain U.S. safeguard laws, should an appropriate petition be filed. As part of that monitoring, the Commission has instituted investigations under section 332 of the Tariff Act of 1930 (19 U.S.C. 1332) for the purpose of compiling data on trade and the domestic industry. The Commission is in the process of preparing its reports for the period ending June 30, 2008, and is seeking input from interested members of the public. The Commission expects to make its reports available to the public in electronic form on the Commission's Web site in November 2008.

DATES: September 11, 2008: Deadline for filing written submissions and other information. November 21, 2008: Anticipated posting of Commission report.

ADDRESSES: All Commission offices, including the Commission's hearing rooms, are located in the United States International Trade Commission Building, 500 E Street, SW., Washington, DC. All written submissions should be addressed to the Secretary, United States International Trade Commission, 500 E Street, SW., Washington, DC 20436. The public record for this investigation may be viewed on the Commission's electronic docket (EDIS) at http://www.usitc.gov/secretary/edis.htm.

FOR FURTHER INFORMATION CONTACT: Brendan Lynch (202-205-3313, brendan.lynch@usitc.gov) or Jonathan Coleman (202-205-3465, jonathan.coleman@usitc.gov), Agriculture and Fisheries Division, Office of Industries, for general information, or William Gearhart (202-205-3091, william.gearhart@usitc.gov), Office of the General Counsel, for information on legal aspects. The media should contact Margaret O'Laughlin (202-205-1819 or margaret.olaughlin@usitc.gov), Office of External Relations. Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: Section 316 of the North American Free-Trade Agreement Implementation Act (NAFTA Implementation Act) (19 U.S.C. 3881) requires that the Commission monitor U.S. imports of fresh or chilled tomatoes (HTS heading 0702.00) and fresh or chilled peppers, other than chili peppers (HTS subheading 0709.60.00), until January 1, 2009, for purposes of expediting an investigation concerning provisional relief under section 202 of the Trade Act of 1974 or section 302 of the NAFTA Implementation Act. Section 316 does not require that the Commission publish reports on this monitoring activity or otherwise make the information available to the public. However, the Commission maintains current data files on tomatoes and peppers in order to conduct an expedited investigation should a request be received. Following enactment of section 316, the Commission instituted investigation No. 332-350, Monitoring of U.S. Imports of Tomatoes (59 FR 1763), and investigation No. 332-351, Monitoring of U.S. Imports of Peppers (59 FR 1762).

The Commission will continue to make its reports available to the public in electronic form (with the exception of any confidential business information (CBI)), and will maintain electronic copies of its reports on its Web site until one year after the monitoring requirement expires on January 1, 2009. The most recent Commission monitoring reports in this series were published in November 2007 and are available on the Commission's Web site.

Written Submissions: The Commission does not plan to hold a public hearing in connection with preparation of these reports. However, interested persons are invited to submit written statements containing data and other information concerning the matters to be addressed. All submissions should be addressed to the Secretary, and should be received no later than the close of business on September 11, 2008. All written submissions must conform with the provisions of section 201.8 of the Commission's Rules of Practice and Procedure (19 CFR 201.8). Section 201.8 requires that a signed original (or a copy so designated) and fourteen (14) copies of each document be filed. In the event that confidential treatment of a document is requested, at least four (4) additional copies must be filed, in which the confidential information must be deleted (see the following paragraph for further information regarding confidential business information). The Commission's rules authorize the filing of submissions with the Secretary by facsimile or electronic means only to the extent permitted by section 201.8 of the rules (see Handbook for Electronic Filing Procedures, http://www.usitc.gov/secretary/fed_reg_notices/rules/documents/handbook_on_electronic_filing.pdf). Persons with questions regarding electronic filing should contact the Secretary (202-205-2000).

Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties.

The Commission will not publish such confidential business information in the monitoring reports it posts on its Web site in a manner that would reveal the operations of the firm supplying the information. However, the Commission may include such information in any report it sends to the President under section 202 of the Trade Act of 1974 or section 302 of the NAFTA Implementation Act, if it is required to conduct an investigation involving these products under either of these statutory authorities.

By order of the Commission.
Issued: July 23, 2008.
Marilyn R. Abbott,
Secretary to the Commission.

[FR Doc. E8-17311 Filed 7-28-08; 8:45 am]

BILLING CODE 7020-02-P